DEPARTMENT OF ENERGY

Environmental Management Site-Specific Advisory Board, Idaho Cleanup Project

AGENCY: Office of Environmental Management, Department of Energy.

ACTION: Notice of open in-person/virtual hybrid meeting.

SUMMARY: This notice announces an in-person/virtual hybrid meeting of the Environmental Management Site-Specific Advisory Board (EM SSAB), Idaho Cleanup Project (ICP). The Federal Advisory Committee Act requires that public notice of this meeting be announced in the Federal Register.

DATES: Thursday, October 22, 2020; 8:30 a.m.-3:00 p.m.

The opportunities for oral public comment are at 10:15 a.m. and 2:45 p.m. MT and written public comment before and after the meeting within seven days.

This time is subject to change; please contact the Federal Coordinator (below) for confirmation of times prior to the meeting.

ADDRESSES: This hybrid meeting will be open to the public virtually via Zoom only. To attend, please contact Jordan Davies, ICP Citizens Advisory Board (CAB) support staff, by email jdavies@northwindgrp.com or phone (720) 452-7379, no later than 5:00 p.m. MT on Tuesday, October 20, 2020.

Board members, DOE representatives, agency liaisons, and support staff will participate in-person, strictly following COVID-19 precautionary measures, at: Sun Valley Inn, 2 Sun Valley Road, Sun Valley, Idaho 83353.

To Sign Up for Public Comment: Please contact Jordan Davies by email, jdavies@northwindgrp.com, no later than 5:00 p.m. MT on Tuesday, October 20, 2020.

FOR FURTHER INFORMATION CONTACT: Danielle Miller, Federal Coordinator, U.S. Department of Energy, Idaho Operations Office, 1955 Fremont Avenue, MS-1203, Idaho Falls, Idaho 83415. Phone (208) 526-5709; or email: millerdc@id.doe.gov or visit the Board's internet home page at: https://www.energy.gov/em/icpcab/.

SUPPLEMENTARY INFORMATION: Purpose of the Board: The purpose of the Board is to make recommendations to DOE-EM and site management in the areas of environmental restoration, waste management, and related activities.

Tentative Topics (agenda topics may change up to the day of the meeting; please contact Danielle Miller for the most current agenda):

• Recent Public Outreach

• ICP Overview

• Comprehensive Environmental Response, Compensation, and Liability Act (CERCLA) Five-Year Review

• Spent Nuclear Fuel Storage Overview

• New Idaho CERCLA Disposal Facility Cell

• Supplemental Environmental Projects

• Advanced Retrieval Project Dismantlement

Public Participation: The in-person/online virtual hybrid meeting is open to the public virtually via Zoom only. Written public comments may be filed with the Board either before or within seven days after the meeting by sending them to Jordan Davies at the aforementioned email address. Oral comments may be given during the aforementioned times. The Deputy Designated Federal Officer is empowered to conduct the meeting in a fashion that will facilitate the orderly conduct of business. Individuals wishing to make public comments will be provided a maximum of five minutes to present their comments.

Minutes: Minutes will be available by writing or calling Danielle Miller, Federal Coordinator, at the address and telephone number listed above. Minutes will also be available at the following website: https://www.energy.gov/em/icpcab/listings/cab-meetings.

Signed in Washington, DC on September 28, 2020.
LaTanya Butler,
Deputy Committee Management Officer.

[FR Doc. 2020-21743 Filed 9-30-20; 8:45 am]

BILLING CODE 6450-01-P